FEDERAL MARITIME COMMISSION

[Docket No. 20-03]

Earlean Edwards Dukart, Complainant v. Ocean Star International Inc., d/b/a International Van Lines, Respondent; Notice of Filing of Complaint and Assignment

Served: February 6, 2020.

Notice is given that a complaint has been filed with the Federal Maritime Commission (Commission) by Earlean Edwards Dukart, hereinafter “Complainant”, against Ocean Star International Inc., d/b/a International Van Lines, hereinafter “Respondent”. Complainant states that she is a U.S. Citizen that currently resides in Belize, Central America. Complainant states that Respondent has “. . . FMC organization/license no. 021051” and claims that Respondent “. . . was acting as a `common carrier' as defined in 46 U.S.C. 40102” in relation to all its allegations. Complainant states that Respondent is a party to a “. . . Service Agreement for the international shipment of goods, Service Contract No. IN4005736.”

Complainant sought transportation services from Respondent for a move of household goods from Colorado to Belize. Complainant alleges that Respondent “. . . willingly and intentionally, altered the terms of the Service Agreement.” Complainant alleges that Respondent “. . . extorted Complainant into paying invalid invoices with inaccurate fees and charges that were disputed by the Complainant.” Complainant also alleges that Respondent “. . . unlawfully submitted fraudulent documents.” Complainant alleges her household goods have not been released to her or delivered.

Complainant alleges that Respondent violated “46 U.S.C. 41102(a)(b)(c)”, “41103(a)(1)”, “41104(1)(2)(3)(4)(8)(10)”, and “41105(1)(2)(4)”. Complainant seeks reparations in the amount of $256,241 and other relief. The full text of the complaint can be found in the Commission's Electronic Reading Room at https://www2.fmc.gov/readingroom/proceeding/20-03/.

This proceeding has been assigned to Office of Administrative Law Judges. The initial decision of the presiding office in this proceeding shall be issued by February 8, 2021, and the final decision of the Commission shall be issued by August 23, 2021.

Rachel Dickon,
Secretary.

[FR Doc. 2020-02784 Filed 2-11-20; 8:45 am]

BILLING CODE 6731-AA-P